DEPARTMENT OF TRANSPORTATION

Federal Motor Carrier Safety Administration

[Docket No. FMCSA 2015-0083]

Agency Information Collection Activities; Revision of a Currently-Approved Information Collection: Licensing Applications for Motor Carrier Operating Authority

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval. The FMCSA seeks approval to revise an ICR titled, “Licensing Applications for Motor Carrier Operating Authority,” that is used by for-hire motor carriers of regulated commodities, motor passenger carriers, freight forwarders, property brokers, and certain Mexico-domiciled motor carriers to register their operations with the FMCSA. On April 3, 2015, FMCSA published a Federal Register notice allowing for a 60-day comment period on this ICR. The agency received no comments in response to that notice.

DATES: Please send your comments to this notice by July 27, 2015. OMB must receive your comments by this date to act quickly on the ICR.

ADDRESSES: All comments should reference Federal Docket Management System (FDMS) Docket Number FMCSA-2015-0083. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, faxed to (202) 395-6974, or mailed to the Office of Information and Regulatory Affairs, Office of Management and Budget, Docket Library, Room 10102, 725 17th Street NW., Washington, DC 20503.

FOR FURTHER INFORMATION CONTACT: Ms. Vivian Oliver, Transportation Specialist, Office of Information Technology, Information Technology Operations Division, Department of Transportation, Federal Motor Carrier Safety Administration, 6th Floor, West Building, 1200 New Jersey Ave. SE., Washington DC 20590, Telephone Number (202) 366-2974; Email Address vivian.oliver@dot.gov. Office hours are from 9:00 a.m. to 5:00 p.m., Monday through Friday, except Federal Holidays.

SUPPLEMENTARY INFORMATION:

Title: Licensing Applications for Motor Carrier Operating Authority.

OMB Control Number: 2126-0016.

Type of Request: Revision of a currently-approved information collection.

Respondents: Certain Mexico-domiciled motor carriers.

Estimated Number of Respondents: 12.

Estimated Time per Response: 4 hours to complete Form OP-1 (MX).

Expiration Date: October 31, 2015.

Frequency of Response: Other (as needed).

Estimated Total Annual Burden: 48 hours [12 annual Form OP-(MX) responses × 4 hours to complete each response = 48].

Background: The FMCSA is authorized to register certain for-hire Mexico-domiciled long-haul motor carriers of regulated commodities under the provisions of 49 U.S.C. 13902 and the North American Free Trade Agreement (NAFTA) motor carrier access provision. The Form OP-1(MX) is used by FMCSA to register those Mexico-domiciled motor carriers. It requests information on the applicant's identity, location, familiarity with safety requirements, and type of proposed operations. This ICR is being revised due to a Final Rule titled, “Unified Registration System,” (78 FR 52608), dated August 23, 2013, that will incorporate all registration form requirements included in this ICR, except the Form OP-1(MX), into the Form MCSA-1 in the OMB Control Number 2126-0051, “FMCSA Registration/Updates,” ICR effective October 23, 2015. The Form OP-1(MX) was excluded from the Form MCSA-1 because its information collection requirements are beyond the scope of the Unified Registration System Final Rule.

Public Comments Invited:

FMCSA requests that you comment on any aspect of this information collection, including: (1) Whether the proposed collection is necessary for FMCSA to perform its functions, (2) the accuracy of the estimated burden, (3) ways for the FMCSA to enhance the quality, usefulness, and clarity of the collected information, and (4) ways that the burden could be minimized without reducing the quality of the collected information. The agency will summarize or include your comments in the request for OMB's clearance of this information collection.

Issued under the authority delegated in 49 CFR 1.87 on: June 19, 2015.
G. Kelly Regal,
Associate Administrator, Office of Research and Information Technology.

[FR Doc. 2015-15721 Filed 6-25-15; 8:45 am]

BILLING CODE 4910-EX-P